DEPARTMENT OF THE INTERIOR

National Park Service

[NPS-WASO-NRSS-1211-9104; 9865-PZS]

Agency Information Collection Activities: Proposed Information Collection for Community Harvest Assessments for Alaskan National Parks and Preserves

AGENCY: National Park Service, U.S. Department of the Interior.

ACTION: Notice and request for comments.

SUMMARY: To comply with the Paperwork Reduction Act of 1995 (PRA), we (the National Park Service) are notifying the public that we have submitted to the Office of Management and Budget (OMB) an information collection request (ICR) for a proposed new collection. This notice provides the public and other Federal agencies an opportunity to comment on the paperwork burden of this collection. To comply with the Paperwork Reduction Act of 1995 and as a part of our continuing efforts to reduce paperwork and respondent burden, we invite the general public and other federal agencies to comment on this ICR. We may not conduct or sponsor and a person is not required to respond to a collection unless it displays a currently valid OMB control number.

DATES: To ensure that your comments on this ICR are considered, please submit them on or before January 20, 2012.

ADDRESSES: Please submit written comments on this information collection directly to the Office of Management and Budget (OMB) Office of Information and Regulatory Affairs, Attention: Desk Officer for the Department of the Interior via email to OIRA_DOCKET@omb.eop.gov or fax at (202) 395-5806; and identify your submission as 1024-WRST. Please also send a copy your comments to Phadrea Ponds, Information Collections Coordinator, National Park Service, 1201 Oakridge Drive, Fort Collins, CO 80525 (mail); or phadrea_ponds@nps.gov (email).

FOR FURTHER INFORMATION CONTACT: Barbara Cellarius, Ph.D., Wrangell-St. Elias National Park and Preserve, P.O. Box 439, Copper Center, AK 99573; barbara_cellarius@nps.gov (email). You may access this ICR at www.reginfo.gov.

I. Abstract

The National Park Service (NPS) Act of 1916, 38 Stat 535, 16 U.S.C. 1, et seq., requires that the NPS preserve national parks for the use and enjoyment of present and future generations. At the field level, this means resource preservation, public education, facility maintenance and operation, and physical developments that are necessary for public use, health, and safety.

National parks and preserves in Alaska created or expanded in 1980 under the Alaska National Interest Lands Conservation Act (ANILCA) provide the opportunity for qualified rural residents to harvest fish, wildlife, and other subsistence resources. Section 812 of ANILCA states, “The Secretary [of the Interior], in cooperation with the State and other appropriate Federal agencies, shall undertake research on fish and wildlife and subsistence uses on the public lands.” To develop resource management strategies for the parklands, the NPS needs information on harvest patterns among residents of communities with subsistence eligibility, resource distribution systems, and the impact of the changing rural economy on subsistence activities. A survey will be used to estimate subsistence harvests and to describe community subsistence economies. This project will survey residents of several communities in Wrangell-St. Elias National Park and Preserve and Gates of the Arctic National Park and Preserve on these topics. The surveyed communities have been designated as resident zone communities for the respective park in recognition that many residents of these communities have customarily and traditionally engaged in subsistence uses within a national park or monument. The resulting information will assist park managers in their subsistence management responsibilities and will also be of use to local and regional advisory councils in making recommendations and by the State of Alaska and the Federal Subsistence Board in making decisions regarding the management of fish and wildlife in the region.

II. Data

OMB Number: 1024-NEW.

Title: Community Harvest Assessments for Alaskan National Parks and Preserves.

Type of Request: NEW.

Affected Public: Individual households eligible to engage in subsistence hunting, fishing, trapping, and gathering under NPS and Federal Subsistence Program regulations in Gates of the Arctic and Wrangell-St. Elias National Parks and Preserves.

Respondent Obligation: Voluntary.

Estimated Annual Number of Respondents: 302 interviews; 336 non-response survey.

Estimated Time and frequency of Response: This is a one-time in-person interview estimated to take 60 minutes per respondent to complete. It is estimated that each respondent will take 10 minutes to complete the initial contact and a short non-response survey.

Estimated Total Annual Burden Hours: 358 hours.

III. Request for Comments

On August 5, 2011 we published a Federal Register notice (76 FR 47609) announcing that we would submit this ICR to OMB for approval and soliciting comments. The comment period closed on October 4 2011. We received one comment expressing concern that residents of other states, such as New Jersey, did not have access to these resources. Under the provisions of ANILCA, only rural Alaska residents are qualified to engage in subsistence in Alaskan National Parks, Preserves and Monuments, and this survey responds directly to congressional direction to collect information on subsistence uses (ANILCA 812). The commenter also states that it is not necessary to conduct these surveys on an annual basis. We agree and are not proposing to do so. It has been 10+ years since these communities were last surveyed, and we feel that conducting surveys at an interval of 5 to 10 years between surveys of individual communities will provide adequate information for management while not unnecessarily burdening the public.

Comments are invited on: (1) The practical utility of the information being gathered; (2) the accuracy of the burden hour estimate; (3) ways to enhance the quality, utility, and clarity of the information to be collected; and (4) ways to minimize the burden to respondents, including use of automated information techniques or other forms of information technology. All comments will become a matter of public record. While you can ask us in your comment to withhold personal identifying information from public review, we cannot guarantee that we will be able to do so.

Dated: December 15, 2011.
Robert M. Gordon,
Information Collection Clearance Officer, National Park Service.

[FR Doc. 2011-32635 Filed 12-20-11; 8:45 am]

BILLING CODE 4312-52-P